ENVIRONMENTAL PROTECTION AGENCY

[OPP-2002-0251; FRL-7283-9]

Diazinon; Availability of Interim Reregistration Eligibility Decision Document for Comment; Reopening of Comment Period

AGENCY: Environmental Protection Agency (EPA).

ACTION: Notice; reopening of comment period.

SUMMARY: EPA issued a notice in the Federal Register of September 25, 2002, announcing the availability and start of a 60-day public comment period on the Interim Reregistration Eligibility Decision (IRED) document for the pesticide active ingredient diazinon. This document is reopening the comment period from November 25, 2002, to January 10, 2003.

DATES: Comments identified by docket ID number OPP-2002-0251 must be received on or before January 10, 2003.

ADDRESSES: Comments may be submitted electronically, by mail, or through hand delivery/courier. Follow the detailed instructions as provided in Unit I.C. of the SUPPLEMENTARY INFORMATION of the September 25, 2002 Federal Register document.

FOR FURTHER INFORMATION CONTACT: Laura Parsons, Special Review and Reregistration Division (7508C), Office of Pesticide Programs, Environmental Protection Agency, 1200 Pennsylvania Ave., NW., Washington, DC 20460-0001; telephone number: (703) 305-5776; e-mail address: parsons.laura@epa.gov.

SUPPLEMENTARY INFORMATION:

I. General Information

A. Does this Action Apply to Me?

The Agency included in the September 25, 2002 Federal Register Notice, a list of those who may be potentially affected by this action. If you have questions regarding the applicability of this action to a particular entity, consult the person listed under FOR FURTHER INFORMATION CONTACT.

B. How Can I Get Copies of this Document and Other Related Information?

1. Docket. EPA has established an official public docket for this action under docket ID number OPP-2002-0251. The official public docket consists of the documents specifically referenced in this action, any public comments received, and other information related to this action. Although, a part of the official docket, the public docket does not include Confidential Business Information (CBI) or other information whose disclosure is restricted by statute. The official public docket is the collection of materials that are available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I.C. of the SUPPLEMENTARY INFORMATION of the September 25, 2002 Federal Register document. If you have questions, consult the person listed under FOR FURTHER INFORMATION CONTACT.

II. What Action is EPA Taking?

This document reopens the public comment period established in the Federal Register of September 25, 2002 (67 FR 60231) (FRL-7274-4). In that document, EPA announced the availability of the IRED for the pesticide active ingredient diazinon and invited comment on the benefit assessments and risk mitigation in the document. EPA is hereby reopening the comment period, which ended on November 25, 2002, to January 10, 2003.

List of Subjects

Environmental protection, Pesticides and pests.

Dated: November 27, 2002.
Lois Rossi,
Director, Registration Division, Office of Pesticide Programs.

[FR Doc. 02-31242 Filed 12-10-02; 8:45 am]

BILLING CODE 6560-50-S